DEPARTMENT OF THE INTERIOR

National Park Service

[7700-1104-SZS]

Long Walk National Historic Trail Feasibility Study, Abbreviated Final Environmental Impact Statement, National Trails Intermountain Region, NM

AGENCY: National Park Service, Interior.

ACTION: Notice of Availability of the Abbreviated Final Environmental Impact Statement for the Long Walk National Historic Trail Feasibility Study.

SUMMARY: Pursuant to the National Environmental Policy Act of 1969, (NEPA) 42 U.S.C. 4332(2)(C), the National Park Service announces the availability of the Abbreviated Final Environmental Impact Statement for the Long Walk National Historic Trail Feasibility Study, National Trails Intermountain Region, New Mexico.

Four alternatives and their respective environmental consequences were presented in the feasibility study. Under alternative A, the no-action alternative, current practices and policies would continue. A national historic trail would not be designated, and interpretation and protection of Long Walk-related events and resources would not be coordinated. Under alternative B, Congress would designate two national historic trails (dual designations) to emphasize the unique removal experiences of the Mescalero Apache and Navajo tribes within the contextual history. An auto tour route would be established. Interpretation and education would emphasize the distinctive tribal and individual removal histories. Under alternative C (Environmentally Preferable Alternative) one national historic trail would be designated, emphasizing the removal experiences common to both tribes. An auto tour route would be established. Interpretation and education would emphasize overviews of the Long Walk events. Under alternatives B and C, the Secretary of the Interior would administer the trail through partnerships, primarily with the Mescalero Apache Tribe and Navajo Nation. Under alternative D, Congress would provide a grant program to the tribes focusing on interpretation and education projects and resource protection on tribal lands. All decisions about strategy, level of protection, etc., would be made by the tribes. A national historic trail would not be designated. No other alternatives were considered during the course of the study.

The feasibility study determined the Long Walk routes fully meet the criteria for designation as national historic trails. The overall nature of public comments during the review period for the draft study supported designation.

Neither the draft feasibility study nor the abbreviated final environmental impact statement identified a preferred alternative. The National Park Service has subsequently identified Alternative A, the no-action alternative, to be the preferred alternative after requesting and considering comments on the draft plan from the Navajo Nation.

DATES: The National Park Service will execute a Record of Decision (ROD) no sooner than 30 days following publication by the Environmental Protection Agency of the Notice of Availability of the Abbreviated Final Environmental Impact Statement.

ADDRESSES: Information will be available for public inspection online at http://parkplanning.nps.gov/ntir, in the office of the Superintendent, Aaron Mahr, National Trails Intermountain Region, National Park Service, PO Box 728, Santa Fe, New Mexico 87504-0728; (505) 988-6098.

FOR FURTHER INFORMATION CONTACT: Sharon A. Brown, National Trails Intermountain Region, National Park Service, PO Box 728, Santa Fe, New Mexico 87504-0728; (505) 988-6717.

Dated: November 26, 2010.
John Wessels,
Regional Director, Intermountain Region, National Park Service.

[FR Doc. 2010-31308 Filed 12-13-10; 8:45 am]

BILLING CODE 4311-36-P